GENERAL SERVICES ADMINISTRATION

[Notice-CECANF-2014-06; Docket No. 2014-0006; Sequence No. 6]

Commission To Eliminate Child Abuse and Neglect Fatalities; Announcement of Meeting

AGENCY: Commission To Eliminate Child Abuse and Neglect Fatalities.

ACTION: Meeting Notice.

SUMMARY: The Commission to Eliminate Child Abuse and Neglect Fatalities (CECANF), a Federal Advisory Committee established by the Protect Our Kids Act of 2012, Public Law 112-275, will hold a meeting open to the public on Thursday, October 23 and Friday, October 24 in Burlington, Vermont.

DATES: The meeting will be held on Thursday, October 23, 2014, from 8:00 a.m. to 5:00 p.m., and Friday, October 24 from 12:30 p.m.-3:00 p.m. Eastern Time.

ADDRESSES: CECANF will convene its meeting at the Sheraton, Burlington, 870 Williston Rd., Burlington VT 05403. This site is accessible to individuals with disabilities. The meeting will also be made available via teleconference. Submit comments identified by “Notice-CECANF-2014-06”, by either of the following methods:

• Regulations.gov: http://www.regulations.gov.

Submit comments via the Federal eRulemaking portal by searching for “Notice-CECANF-2014-06”. Select the link “Comment Now” that corresponds with “Notice-CECANF-2014-06”. Follow the instructions provided at screen. Please include your name, organization name (if any), and “Notice-CECANF-2014-06” on your attached document.

• Mail: Commission to Eliminate Child Abuse and Neglect Fatalities, c/o General Services Administration, Agency Liaison Division, 1800 F St. NW., Room 7003D, Washington, DC 20006.

Instructions: Please submit comments only and cite “Notice-CECANF-2014-06” in all correspondence related to this notice. All comments received will be posted without change to http://www.regulations.gov, including any personal and/or business confidential information provided.

FOR FURTHER INFORMATION CONTACT: Visit the CECANF Web site at https://eliminatechildabusefatalities.sites.usa.gov/ or contact Ms. Patricia Brincefield, Communications Director, at 202-818-9596, 1800 F St. NW., Room 7003D, Washington, DC 20006.

SUPPLEMENTARY INFORMATION:

Background: CECANF was established to develop a national strategy and recommendations for reducing fatalities resulting from child abuse and neglect.

Agenda: The purpose of the meeting being held on October 23, 2014 is for Commission members to gather national and state-specific information regarding child abuse and neglect fatalities. The Commission will hear from researchers and issue experts regarding child abuse and neglect fatalities among tribes, the state of the art of safety decision making in child welfare; how child safety is considered by law enforcement and in mental health, domestic violence and substance abuse treatment services; what is known about near fatalities; and, what a public health based child abuse and neglect fatality prevention infrastructure might look like. On October 24, 2014 the Commissioners will be discussing issues related to defining and counting child abuse and neglect fatalities and issues regarding confidentiality.

Attendance at the Meeting: Individuals interested in attending the meeting in person or participating by webinar and teleconference line must register in advance. To register to attend in person or by webinar/phone, please go to https://attendee.gotowebinar.com/register/4698443344955798018 and follow the prompts. You will receive a confirmation email once you register with the webinar login and teleconference number. Detailed meeting minutes will be posted within 90 days of the meeting. Members of the public will not have the opportunity to ask questions or otherwise participate in the meeting.

However, members of the public wishing to comment should follow the steps detailed under the heading Addresses in this publication or contact us via the CECANF Web site at https://eliminatechildabusefatalities.sites.usa.gov/contact-us/.

Dated: October 6, 2014.
Karen White,
Executive Assistant.

[FR Doc. 2014-24484 Filed 10-15-14; 8:45 am]

BILLING CODE 6820-34-P